DEPARTMENT OF HEALTH AND HUMAN SERVICES

Health Resources and Services Administration

Notice of Supplemental Funding Opportunity

AGENCY: Health Resources and Services Administration, HHS.

ACTION: Notice of Supplemental Funding Opportunity: Secretary's Minority AIDS Initiative Funding to Increase HIV Prevention and Care Service Delivery among Health Centers Serving High HIV Prevalence Jurisdictions.

SUMMARY: Funded in part by the Secretary's Minority AIDS Initiative Fund (SMAIF), as set forth in the Consolidated Appropriations Act of 2014, Public Law 113-76, H.R. 3547-376, a supplemental funding opportunity will be available in June 2014, for certain existing Health Center Program grantees funded under Section 330 of the Public Health Service (PHS) Act, as amended (42 U.S.C. 254b). This supplemental funding opportunity is one facet of a partnership between the Centers for Disease Control and Prevention (CDC) and the Health Resources and Services Administration, Bureau of Primary Health Care (HRSA, BPHC), which will encourage collaboration between Health Center Program grantees in geographic areas of high HIV/AIDS unmet need among racial/ethnic minorities and state health departments to increase and improve HIV service delivery within their primary care programs.

Under Secretary's Minority AIDS Initiative Funding to Increase HIV Prevention and Care Service Delivery among Health Centers Serving High HIV Prevalence Jurisdictions (CDC-RFA-PS14-1410), CDC will fund approximately four state health departments through a competitive application process among nine state health departments (Alabama, California, Florida, Maryland, Massachusetts, Michigan, New York, South Carolina, and Texas) that have been identified as eligible to apply for funding. State health department awardees must collaborate with Health Center Program grantees identified in their applications to increase and improve HIV service delivery among racial/ethnic minorities. Health Center Program grantees identified in awarded health department applications may subsequently apply for supplemental funding from HRSA for their participation in this collaboration.

HRSA will award 12-24 supplemental awards ranging in amount from $250,000 to $500,000 to existing Health Center Program grantees identified by state health departments as collaborative partners in their applications for grant funding under Secretary's Minority AIDS Initiative Funding to Increase HIV Prevention and Care Service Delivery among Health Centers Serving High HIV Prevalence Jurisdictions (CDC-RFA-PS14-1410). This supplemental funding will support activities currently in scope of health center projects, including health center workforce development, infrastructure development, HIV service delivery across the HIV care continuum, and the development of sustainable partnerships with state health departments.

FOR FURTHER INFORMATION CONTACT: Joanne Galindo or Jennifer Clarke, Office of Policy and Program Development, Bureau of Primary Health Care, Health Resources and Services Administration, 5600 Fishers Lane, Room 17C-05, Rockville, MD 20857; telephone 301-594-4300.

Dated: March 28, 2014.
Mary K. Wakefield,
Administrator.

[FR Doc. 2014-07490 Filed 4-3-14; 8:45 am]

BILLING CODE 4165-15-P